DEPARTMENT OF TRANSPORTATION

Federal Motor Carrier Safety Administration

[Docket No. FMCSA-2018-0073]

Agency Information Collection Activities; Revision of a Currently-Approved Information Collection Request: Annual Report of Class I and Class II Motor Carriers of Property

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The FMCSA requests approval to revise and extend the, “Annual Report of Class I and Class II Motor Carriers of Property” ICR, OMB Control No. 2126-0032. This ICR is necessary to ensure that motor carriers comply with FMCSA's financial and operating statistics requirements at chapter III of title 49 CFR part 369 titled, “Reports of Motor Carriers.” This ICR is being revised to incorporate the OMB approved “Annual Report of Class I Motor Carriers of Passengers” ICR, OMB Control No. 2126-0031, for use of the MP-1 form, the “Annual Report Form (Motor Carriers of Passengers),” which resulted in only two respondents and one burden hour per year. Through the proposed merger of the two ICRs, FMCSA would rename the OMB Control No. 2126-0032 ICR as the “Annual Report of Class I and Class II For-Hire Motor Carriers” ICR. Such a merger with the new title will clarify that the combined ICR addresses both for-hire property and passenger carriers, but not private motor carriers. Additionally, after the merger of the ICRs, FMCSA intends to request withdrawal of the previously approved “Annual Report of Class I Motor Carriers of Passengers” ICR, OMB Control No. 2126-0031.

DATES: Please send your comments by January 28, 2019. OMB must receive your comments by this date in order to act quickly on the ICR.

ADDRESSES: All comments should reference Federal Docket Management System (FDMS) Docket Number FMCSA-2018-0073. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Mr. Jeff Secrist, Office of Registration and Safety Information, Department of Transportation, Federal Motor Carrier Safety Administration, West Building 6th Floor, 1200 New Jersey Avenue SE, Washington, DC 20590-0001. Telephone: 202-385-2367; email jeff.secrist@dot.gov.

SUPPLEMENTARY INFORMATION:

Title: Annual Report of Class I and Class II Motor Carriers of Property

OMB Control Number: 2126-0032.

Type of Request: Revision of a currently-approved information collection.

Respondents: Class I and Class II Motor Carriers of Property, Passengers, and Household Goods.

Estimated Number of Respondents: 98.

Estimated Time per Response: 9 hours.

Expiration Date: December 31, 2018.

Frequency of Response: Annually.

Estimated Total Annual Burden: 865 hours [96 respondents × 9 hours to complete form M-1 + 2 respondents × 0.3 = 0.6 rounded to 1 hour to complete form MP-1].

Background: Section 14123 of title 49 of the United States Code (U.S.C.) requires certain for-hire motor carriers of property, passengers, and household goods to file annual financial reports. The annual reporting program was implemented on December 24, 1938 (3 FR 3158), and it was subsequently transferred from the Interstate Commerce Commission (ICC) to the U.S. Department of Transportation's (DOT) Bureau of Transportation Statistics (BTS) on January 1, 1996. The Secretary of DOT delegated to BTS the responsibility for the program on December 17, 1996 (61 FR 68162). Annual financial reports are filed on Form M (for-hire property carriers, including household goods carriers) and Form MP-1 (for-hire passenger carriers). Responsibility for collection of the reports was transferred from BTS to FMCSA on August 17, 2004 (69 FR 51009), and the regulations were redesignated as 49 CFR part 369 on August 10, 2006 (71 FR 45740). FMCSA has continued to collect carriers' annual reports and to furnish copies of the reports requested under the Freedom of information Act. For-hire motor carriers (including interstate and intrastate) subject to the Federal Motor Carrier Safety Regulations are classified on the basis of their gross carrier operating revenues.¹

¹ For purposes of the Financial and Operating Statistics (F&OS) program, carriers are classified into the following three groups: (1) Class I carriers are those having annual carrier operating revenues (including interstate and intrastate) of $10 million or more after applying the revenue deflator formula as set forth in Note A of 49 CFR 369.2; and (2) Class II carriers are those having annual carrier operating revenues (including interstate and intrastate) of at least $3 million, but less than $10 million after applying the revenue deflator formula as set forth in 49 CFR 369.2.

Under the Financial and Operating Statistics (F&OS) program, FMCSA collects from Class I and Class II for-hire motor carriers balance sheet and income statement data along with information on safety needs, tonnage, mileage, employees, transportation equipment, and other related data. FMCSA may also ask carriers to respond to surveys concerning their operations. The data and information collected would be made publicly available and used by FMCSA to determine a motor carrier's compliance with the F&OS program requirements prescribed at chapter III of title of 49 CFR part 369. FMCSA has created electronic forms that may be prepared, signed electronically, and submitted to FMCSA via https://ask.fmcsa.dot.gov/app/ask/ in accordance with the Agency's April 28, 2014 (79 FR 23306), rulemaking in RIN 2126-AB47, Electronic Signatures and Documents.

On April 24, 2018 (83 FR 17894), FMCSA published a notice in the Federal Register with a 60-day public comment period to announce this proposed information collection request. The agency received no comments in response to this notice.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on: December 20, 2018.
G. Kelly Regal,
Associate Administrator for Office of Research and Information Technology.

[FR Doc. 2018-28173 Filed 12-26-18; 8:45 am]

BILLING CODE 4910-EX-P